FARM CREDIT SYSTEM INSURANCE CORPORATION

12 CFR Part 1410

RIN 3055-AA10

Premiums

AGENCY: Farm Credit System Insurance Corporation.

ACTION: Notice of effective date.

SUMMARY: The Farm Credit System Insurance Corporation (FCSIC) issued a direct final rule with opportunity for comment on April 15, 2009 (74 FR 17371) amending its premium regulations under 12 CFR part 1410 to reflect the amendments of the Farm Credit Act of 1971 that were made by the enactment of the Food, Conservation, and Energy Act of 2008. The purpose of the amended rule is to clarify the premium regulations and eliminate provisions of the premium regulations that are obsolete or inconsistent with the Farm Credit Act of 1971, as amended. The opportunity for comment expired on May 15, 2009. The FCSIC received no comments and therefore, the direct final rule becomes effective without change. In accordance with 12 U.S.C. 2252, the effective date of the rule is 30 days from the date of publication in the Federal Register during which either or both Houses of Congress are in session. Based on the records of the sessions of Congress, the effective date of the regulations is June 9, 2009.

DATES: Effective Date: The regulation amending 12 CFR part 1410 published on April 15, 2009 (74 FR 17371) is effective June 9, 2009.

FOR FURTHER INFORMATION CONTACT: James M. Morris, General Counsel, Farm Credit System Insurance Corporation, 1501 Farm Credit Drive, McLean, VA 22102, 703-883-4380, TTY 703-883-4390, Fax 703-790-9088.

Roland E. Smith,
Secretary to the Board, Farm Credit System Insurance Corporation.

[FR Doc. E9-13954 Filed 6-12-09; 8:45 am]

BILLING CODE 6710-01-P